DEPARTMENT OF EDUCATION

[Docket ID ED-2020-OCTAE-0176]

Request for Information on Expanding Work-Based Learning Opportunities for Youth

AGENCY: Office of Career, Technical, and Adult Education, Department of Education.

ACTION: Request for information.

SUMMARY: The U.S. Department of Education (Department) is requesting information on successful approaches for expanding work-based learning (WBL) opportunities for youth by working across Federal, State, and local education and employer systems. We will use this information to inform our implementation of the Carl D. Perkins Career and Technical Education Act of 2006, as amended by the Strengthening Career and Technical Education for the 21st Century Act (Perkins V).

DATES: We must receive your submission by January 13, 2021.

ADDRESSES: Submit your response to this request for information (RFI) through the Federal eRulemaking Portal. We will not accept submissions by postal mail, commercial mail, hand delivery, fax, or email. To ensure that we do not receive duplicate copies, please submit your comments only one time.

Federal eRulemaking Portal: Go to www.regulations.gov to submit your comments electronically. Information on using Regulations.gov, including instructions for accessing agency documents, submitting comments, and viewing the docket, is available on the site under the “Help” tab.

Privacy Note: The Department's policy for comments received from members of the public is to make these submissions available for public viewing in their entirety on the Federal eRulemaking Portal at www.regulations.gov. Therefore, commenters should be careful to include in their comments only information that they wish to make publicly available on the internet. We encourage, but do not require, that each respondent include his or her name, title, institution or affiliation, and the name, title, mailing and email addresses, and telephone number of a contact person for his or her institution or affiliation, if any.

This is a request for information only. This RFI is not a request for proposals (RFP) or a promise to issue an RFP or a notice inviting applications. This RFI does not commit the Department to contract for any supply or service whatsoever. Further, we are not seeking proposals and will not accept unsolicited proposals. The Department will not pay for any information or administrative costs that you may incur in responding to this RFI.

The documents and information submitted in response to this RFI become the property of the U.S. Government and will not be returned.

FOR FURTHER INFORMATION CONTACT: Kiawanta Hunter-Keiser, Office of Career, Technical, and Adult Education, U.S Department of Education, 400 Maryland Avenue SW, Room 11-119, Potomac Center Plaza, Washington, DC 20202-7240. Telephone: (202) 245-7724. Email: Kiawanta.Hunter-Keiser@ed.gov.

If you use a telecommunications device for the deaf (TDD) or a text telephone (TTY), call the Federal Relay Service (FRS), toll-free, at 1-800-877-8339.

SUPPLEMENTARY INFORMATION: The Department awards approximately $1.3 billion annually for Career and Technical Education (CTE) State formula grants authorized under Perkins V. Perkins V assists States and outlying areas in expanding and improving CTE in secondary schools, technical schools, and community colleges. Each State uses program funds to support a variety of CTE programs and activities developed in accordance with its State plan.

The enactment of Perkins V in 2018 highlighted the provision of WBL ¹ as an important strategy for preparing CTE students for further learning and careers. For example, the new law amended the definition of CTE to include WBL as a component (20 U.S.C. 2302(5)); directed States to identify in their State plans how individuals who are members of special populations ² will be provided instruction and WBL opportunities in integrated settings that support competitive, integrated employment (20 U.S.C. 2342(d)(9)(E)); and permitted States to use State leadership funds to establish and expand WBL opportunities that are aligned to CTE programs and programs of study (20 U.S.C. 2344(b)(18)), as well as to facilitate the inclusion of WBL opportunities (including internships, externships, and simulated work environments) in CTE programs of study (20 U.S.C. 2344(b)(4)(C)).

¹ Section 3(55) of Perkins V defines the term “work-based learning” to mean “sustained interactions with industry or community professionals in real workplace settings, to the extent practicable, or simulated environments at an educational institution that foster in-depth, firsthand engagement with the tasks required in a given career field, that are aligned to curriculum and instruction.”

² Section 3(48) of Perkins V defines “special populations” to mean “(A) individuals with disabilities; (B) individuals from economically disadvantaged families, including low-income youth and adults; (C) individuals preparing for non-traditional fields; (D) single parents, including single pregnant women; (E) out-of-workforce individuals; (F) English learners; (G) homeless individuals described in section 725 of the McKinney-Vento Homeless Assistance Act (42 U.S.C. 11434a); (H) youth who are in, or have aged out of, the foster care system; and (I) youth with a parent who—(i) is a member of the armed forces (as such term is defined in section 101(a)(4) of title 10, United States Code); and (ii) is on active duty (as such term is defined in section 101(d)(1) of such title).”

At the local level, amendments made by the 2018 law required eligible recipients to describe in their applications for funds the WBL opportunities that they will provide to students participating in CTE programs and how they will work with representatives from employers to develop or expand WBL opportunities for CTE students (20 U.S.C. 2354(b)(6)). Providing a continuum of WBL opportunities, including simulated work environments, is also an authorized use of the funds by local recipients (20 U.S.C. 2355(b)(5)(E)). Importantly, the new law also included participation in WBL by secondary CTE concentrators as a new optional indicator of State performance (20 U.S.C. 2323(b)(2)(A)(iv)(I)(cc)). In the State plans submitted during summer 2020, 26 States selected this indicator as one of their measures of secondary CTE program quality.³

³ Perkins V State Plans approved by the Department can be found on the Department's website at https://cte.ed.gov/grants/state-plan.

The greater prominence of WBL in Perkins V and interest in expanding its availability comes at a time when participation in the labor market by youth is at a low point. Since 2000, there has been a precipitous drop in participation in the job market by adolescents ages 16 to 19 of all major races and ethnicities.⁴ The labor force participation rate measures the percentage of individuals who are employed or who are seeking employment. During July, at the height of the summer, the labor force participation rate of 16- to 19-year-old youth declined from 62.9 percent in 1999 to 40.0 percent in 2020 (Table 1). This deep decline occurred among White youth, Black youth, Hispanic youth, and Asian youth. Summer job opportunities are particularly limited for low-income youth. The employment rate measures the percentage of individuals in the labor force who are employed. In July 2020, the employment rate of youth ages 16 to 19 from families with annual incomes of $20,000 or less was about half that of their peers from families with annual incomes of $150,000 or more (Table 2). Youth participation in the labor market throughout the year also has dropped significantly since 2000. The annual average rate of labor force participation among youth ages 16 to 19 fell from 52.0 percent in 1999 to 35.3 percent in 2019, with White youth, Black youth, Hispanic youth, and Asian youth all experiencing a decline (Table 3).

⁴ See, for example, Steven F. Hipple, “Labor force participation: What has happened since the peak?,” Monthly Labor Review, U.S. Bureau of Labor Statistics, September 2016, Retrieved from https://doi.org/10.21916/mlr.2016.43.

Table 1—Percentage of Youth Ages 16 to 19 Participating in the Labor Force During July
Year | All youth, ages 16-19 | White youth, ages 16-19 | Black youth, ages 16-19 | Hispanic youth, ages 16-19 | Asian youth, ages 16-19
1999 | 62.9 | 66.5 | 49.8 | 51.5 | (*)
2000 | 61.8 | 65.6 | 50.2 | 51.4 | 37.2
2001 | 60.3 | 64.1 | 47.3 | 50.9 | 39.7
2002 | 57.5 | 61.1 | 42.7 | 48.9 | 43.9
2003 | 53.7 | 57.0 | 41.8 | 43.3 | 36.2
2004 | 53.6 | 57.1 | 41.8 | 45.0 | 33.1
2005 | 53.0 | 56.3 | 41.7 | 42.9 | 34.4
2006 | 53.5 | 56.9 | 43.1 | 44.9 | 32.6
2007 | 50.0 | 53.9 | 36.3 | 39.5 | 30.3
2008 | 49.6 | 53.2 | 37.7 | 41.5 | 30.0
2009 | 46.5 | 50.1 | 35.5 | 42.1 | 28.2
2010 | 42.6 | 46.0 | 30.8 | 36.8 | 31.9
2011 | 41.6 | 45.3 | 28.5 | 32.6 | 26.3
2012 | 43.4 | 45.9 | 37.0 | 37.9 | 23.0
2013 | 43.3 | 45.6 | 36.3 | 39.5 | 27.5
2014 | 42.3 | 45.3 | 32.0 | 36.2 | 27.9
2015 | 41.3 | 44.1 | 35.3 | 35.2 | 25.3
2016 | 43.2 | 46.0 | 34.4 | 35.3 | 24.9
2017 | 42.5 | 43.8 | 37.5 | 36.7 | 30.5
2018 | 43.0 | 45.4 | 36.3 | 37.9 | 25.1
2019 | 44.3 | 47.1 | 38.8 | 38.3 | 25.7
2020 | 40.0 | 42.4 | 35.9 | 34.2 | 20.9
Source: U.S. Bureau of Labor Statistics (BLS), Current Population Survey, not seasonally adjusted, 1999-2020. Retrieved by searching the BLS Data Finder 1.1 at https://beta.bls.gov/dataQuery/search.
* Data from 1999 on Asian youth ages 16 to 19 are not available.

Table 2—July 2020 Employment Rate of Youth Ages 16 to 19, By Annual Family Income
Family income | July 2020 percentage employment rate
Under $20,000 | 18.9
$20,000-$39,999 | 24.3
$40,000-$59,999 | 32.4
$60,000-$74,999 | 33.3
$75,000-$99,999 | 35.4
$100,000-$149,999 | 37.9
+$150,000 and higher | 40.3
Source: U.S. Census Bureau, Current Population Survey public use microdata, July 2020. Retrieved by searching the Census Bureau's MDAT tool at https://data.census.gov/mdat/#/.

Table 3—Annual Average Percentage of Youth Ages 16 to 19 Participating in the Labor Force
Year | All youth, Ages 16-19 | White youth, ages 16-19 | Black youth, ages 16-19 | Hispanic youth, ages 16-19 | Asian Youth, ages 16-19
1999 | 52.0 | 55.5 | 38.7 | 45.5 | (*)
2000 | 52.0 | 55.5 | 39.4 | 46.3 | 35.8
2001 | 49.6 | 53.1 | 37.6 | 46.9 | 32.0
2002 | 47.4 | 50.5 | 36.0 | 44.0 | 33.3
2003 | 44.5 | 47.7 | 32.4 | 37.7 | 29.6
2004 | 43.9 | 47.1 | 31.4 | 38.2 | 28.4
2005 | 43.7 | 46.9 | 32.4 | 38.6 | 26.0
2006 | 43.7 | 46.7 | 34.0 | 38.3 | 25.1
2007 | 41.3 | 44.4 | 30.3 | 37.1 | 24.5
2008 | 40.2 | 43.1 | 29.4 | 36.9 | 24.9
2009 | 37.5 | 40.6 | 27.2 | 34.0 | 20.8
2010 | 34.9 | 37.7 | 25.5 | 30.9 | 22.0
2011 | 34.1 | 36.8 | 24.9 | 28.3 | 21.7
2012 | 34.3 | 36.9 | 26.9 | 30.9 | 20.1
2013 | 34.5 | 36.9 | 28.0 | 31.0 | 21.5
2014 | 34.0 | 36.2 | 27.2 | 30.3 | 21.0
2015 | 34.3 | 36.4 | 28.1 | 30.9 | 20.6
2016 | 35.2 | 37.4 | 29.0 | 31.2 | 21.2
2017 | 35.2 | 36.8 | 30.0 | 31.9 | 23.5
2018 | 35.1 | 37.2 | 30.5 | 32.5 | 19.6
2019 | 35.3 | 37.5 | 30.1 | 32.2 | 21.6
Source: U.S. Bureau of Labor Statistics, Current Population Survey, not seasonally adjusted, 1962-2019. Retrieved from the BLS Data Finder 1.1 at https://beta.bls.gov/dataQuery/search.
* Data from 1999 on Asian youth ages 16 to 19 are not available.

With the heightened interest in expanding WBL for CTE students occurring at the same time that participation in work by youth is waning, the Department is soliciting ideas and information from a broad array of stakeholders on strategies and approaches to expand WBL opportunities for primarily high school students ages 16 or 17. These opportunities may include, but are not limited to, paid internships, work study, cooperative education, apprenticeships, and pre-apprenticeships. Input on stabilizing and increasing WBL will also be critical to mitigate the potential short- and long-term impact of the pandemic on youth employment.

We are interested in learning about successful approaches to expanding WBL opportunities for youth from States, Tribes, State and local educational agencies, community-based and other nonprofit organizations, employers, industry associations, philanthropic organizations, faith-based organizations, researchers, and other interested individuals and entities. The public input provided in response to this notice will inform the deliberations of the Department on the implementation of Perkins V and the Department's consultation and coordination on activities related to federally supported youth employment initiatives with its partners in the implementation of the Workforce Innovation and Opportunity Act (Pub. L. 113-128), including the U.S. Departments of Labor and Health and Human Services.

In responding to the questions, please provide information about WBL in the context of both prior to and during the pandemic, as applicable.

Key Questions

1. What barriers have you seen in your State or community to helping 16-and 17-year-old students gain a WBL experience?

2. What WBL programs and strategies at the State or local level do you consider successful or can be efficiently brought to scale, including apprenticeship opportunities for high school and college students?

3. What role does the public elementary and secondary education system currently play in the development of career readiness for youth, and what role should it play?

4. How can we better align resources and administrative, regulatory, and statutory requirements to allow for greater collaboration between educators and private and nonprofit employers?

5. What do State and local workforce development boards established by Title I of the Workforce Innovation and Opportunity Act and their partners need to do to facilitate better leveraging Federal workforce dollars targeted at youth?

Detailed Questions

I. Successful Practices and Strategies

1. What Federal, State, and local programs or community collaborative efforts have led to expanded WBL for high school age students? What is the objective evidence of their success (e.g., evidence from rigorous evaluations using, for instance, causal research designs)?

2. How might technology be leveraged to overcome geographic barriers to student participation in WBL in rural and other communities? Are there successful examples of virtual WBL?

3. What interventions, strategies, or practices would need to be included in a WBL program to increase the likelihood of its success?

4. What are ways to involve parents, students, and employers in planning and implementing WBL to help ensure that strategies will be successful in meeting their needs?

II. Public and Private Partnerships

1. Which State, local, nonprofit, and business partners have been involved in successful initiatives to expand WBL? Which partners should be involved in the future?

2. What role did or what role could philanthropic organizations play in supporting these types of initiatives?

3. How were the partnerships involved in those initiatives structured (e.g., governance models, provision of services, shared funding, collaborative professional development)?

III. Outcomes, Data, and Evaluation Design

1. What existing data collection mechanisms can be harnessed to describe the characteristics of students and employers participating in WBL and to track performance outcomes of students who participate or do not participate in WBL?

2. What role, if any, do you believe a State's longitudinal data system should or could play in the development, tracking, and advancement of career readiness?

3. What do you see as the most predictive and helpful metrics and outcomes for success?

4. What are examples of some frameworks and protocols for sharing data efficiently across programs while meeting privacy and confidentiality requirements? What should be the specifications for additional frameworks or protocols for the effective sharing of information?

5. What are the best examples of schools and programs using data to track progress, inform course corrections, and evaluate program performance in WBL?

6. Would you consider participating in a Department-sponsored rigorous evaluation of an innovative WBL practice or strategy?

IV. Student Barriers

1. What are the legislative, regulatory, or other barriers that impede student participation in WBL? What barriers has the COVID-19 pandemic created?

2. Are the barriers created at the Federal, State, or local level?

3. Could the barriers be overcome through administrative action (i.e., without changes to laws or regulations)? How and in what ways?

4. Would overcoming the barriers require changes in Federal or State laws? If so, what are those provisions of law and how would they need to be changed?

5. What are examples of schools or communities that have been successful in addressing transportation barriers to student participation in WBL?

6. What are the best assessment tools to identify, address, and overcome barriers to career readiness among students?

7. What strategies have been successful in expanding WBL opportunities for students from special populations, as well as students from major racial and ethnic groups?

V. Employer Barriers

1. What are the legislative, regulatory, or other barriers, such as liability concerns, that impede employer participation in WBL when hiring high school students ages 16 to 17? For students ages 18 to 19, including college students?

2. Are the barriers created at the Federal, State, or local level?

3. Could the barriers be overcome through administrative action (i.e., without changes to laws or regulations)? How and in what ways?

4. Would overcoming the barriers require changes in Federal or State laws? If so, what are those provisions of law and how would they need to be changed?

5. Are there incentives that would help employers be more engaged with WBL in your community?

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: 20 U.S.C. 2324; 20 U.S.C. 3416.

Scott Stump,
Assistant Secretary for Career, Technical, and Adult Education.

[FR Doc. 2020-26483 Filed 12-1-20; 8:45 am]

BILLING CODE 4000-01-P